OFFICE OF MANAGEMENT AND BUDGET

Office of Federal Procurement Policy

DEPARTMENT OF DEFENSE

GENERAL SERVICES ADMINISTRATION

NATIONAL AERONAUTICS AND SPACE ADMINISTRATION

48 CFR Chapter 1

[Docket No. FAR-2025-0051, Sequence No. 3]

Federal Acquisition Regulation; Federal Acquisition Circular 2025-06; Introduction

AGENCY: Office of Federal Procurement Policy (OFPP), Office of Management and Budget; Department of Defense (DoD); General Services Administration (GSA); and National Aeronautics and Space Administration (NASA).

ACTION: Summary presentation of a final rule.

SUMMARY: This document summarizes the Federal Acquisition Regulation (FAR) rules agreed to by OFPP, DoD, GSA, and NASA (collectively referred to as the Federal Acquisition Regulatory Council) in this Federal Acquisition Circular (FAC) 2025-06. A companion document, the Small Entity Compliance Guide (SECG), follows this FAC.

DATES: For effective dates see the separate documents, which follow.

ADDRESSES: The FAC, including the SECG, is available at https://www.regulations.gov.

FOR FURTHER INFORMATION CONTACT: For clarification in relation to the FAR cases listed in the table below, contact FARPolicy@gsa.gov or call 202-969-4075. For information pertaining to status or publication schedules, contact the Regulatory Secretariat Division at 202-501-4755 or GSARegSec@gsa.gov.

Rule Listed in FAC 2025-06
Subject | FAR case
Inflation Adjustment of Acquisition—Related Thresholds | 2024-001

SUPPLEMENTARY INFORMATION: A summary for the FAR rule follows. For the actual revisions and/or amendments made by this FAR rule, refer to the specific subject set forth in the document following this summary. FAC 2025-06 amends the FAR as follows:

Inflation Adjustment of Acquisition-Related Thresholds (FAR Case 2024-001)

This final rule amends the FAR to further implement 41 U.S.C. 1908. Section 1908 requires an adjustment, for inflation, every 5 years (in years evenly divisible by 5) of statutory acquisition-related thresholds using the Consumer Price Index for all urban consumers, except for the Construction Wage Rate Requirements statute (Davis-Bacon Act), Service Contract Labor Standards statute, performance and payment bonds (formerly the Miller Act), and trade agreements thresholds (see FAR 1.109). OFPP, DoD, GSA, and NASA are also using the same methodology to change nonstatutory FAR acquisition-related thresholds for 2025. The final rule is not expected to have a significant impact on the public or the Government because the rule is intended to maintain the status quo by adjusting acquisition-related thresholds for inflation.

William F. Clark,
Director, Office of Government-wide Acquisition Policy, Office of Acquisition Policy, Office of Government-wide Policy.

Federal Acquisition Circular (FAC) 2025-06 is issued under the authority of the Administrator for Federal Procurement Policy, the Secretary of Defense, the Administrator of General Services, and the Administrator of National Aeronautics and Space Administration.

Unless otherwise specified, all Federal Acquisition Regulation (FAR) and other directive material contained in FAC 2025-06 is effective August 27, 2025 except for FAR Case 2024-001, which is effective October 1, 2025.

Mathew Blum,

Acting Administrator for Federal Procurement Policy Office of Management and Budget.

John M. Tenaglia,

Principal Director, Defense Pricing, Contracting, and Acquisition Policy, Department of Defense.

Jeffrey A. Koses,

Senior Procurement Executive/Deputy CAO, Office of Acquisition Policy, U.S. General Services Administration.

Marvin L. Horne,

Acting Senior Procurement Executive/Deputy CAO, Assistant Administrator for Procurement, National Aeronautics and Space Administration.

[FR Doc. 2025-16411 Filed 8-26-25; 8:45 am]

BILLING CODE 6820-EP-P